DEPARTMENT OF DEFENSE

Department of the Army, Corps of Engineers

One-Time Deauthorization of Water Resources Projects

AGENCY: Army Corps of Engineers, DoD.

ACTION: Notice of Interim Deauthorization List.

SUMMARY: The U.S. Army Corps of Engineers is publishing an Interim Deauthorization List of water resources development projects and separable elements that have been identified for deauthorization in accordance with section 6001(c) of the Water Resources Reform and Development Act of 2014, Public Law 113-121, 128 STAT. 1346-1347 (WRRDA 2014), and is soliciting comments from the public on the list for 90 calendar days. Comments should be provided to the contact named below by January 4, 2016.

FOR FURTHER INFORMATION CONTACT: Mr. Joseph W. Aldridge, Headquarters, U.S. Army Corps of Engineers, Attention: CECW-IP, Washington, DC 20314-1000. Tel. (202) 761-4130 or joseph.w.aldridge@usace.army.mil.

SUPPLEMENTARY INFORMATION: Interim Deauthorization List required by § 6001(c).

Section 6001(c) provides that the Secretary shall develop an Interim Deauthorization List that identifies each water resources development project, or separable element of a project, that meets the following criteria. Projects and separable elements eligible for deauthorization are those uncompleted construction projects and separable elements meeting all of the following criteria: (1) They were authorized for construction before November 8, 2007, or their most recent modification of the construction authorization predates November 8, 2007; (2) their construction has not been initiated, or, if construction has been initiated, there have been no obligations of Federal or non-federal funds for construction in the current fiscal year or any of the past 6 fiscal years; and, (3) there has been no funding for a post-authorization study in the current fiscal year or any of the past 6 fiscal years. As specifically provided in section 6001(f)(1)(B) of WRRDA 2014, water resources development projects include environmental infrastructure assistance projects and programs of the U.S. Army Corps of Engineers. In accordance with section 103(f) of the Water Resources Development Act of 1986, separable elements is defined as “a portion of a project—

(1) which is physically separable from other portions of the project; and

(2) which—

(A) achieves hydrologic effects, or

(B) produces physical or economic benefits, which are separately identifiable from those produced by other portions of the project.”

The following elements of an authorized water resources development project also qualify as separable elements: An element for which there is an executed design agreement or project partnership agreement specific to that element; an element that has received funding specified for that element; an element that was authorized separately from or as an amendment to the authorization for the remainder of the water resources development project, that was separately identified in the authorization for the water resources development project, or for which a statute specifies an authorized cost, estimated cost, or amount authorized to be appropriated; an element that has been placed in service or for which the Government or the non-federal partner has assumed operation and maintenance; an element that has been deauthorized; or the remaining portion of the water resources development project apart from other separable elements. Following a 90-day public review period of the Interim Deauthorization List, the Assistant Secretary of the Army for Civil Works (ASA(CW)) will publish a Final Deauthorization List in the Federal Register. Section 6001(d)(2)(A) of WRRDA 2014 requires that the Secretary shall include on the Final Deauthorization List projects and separable elements of projects that have, in the aggregate, an estimated Federal cost to complete that is at least $18 billion. The ASA(CW) has strived to meet the requirements of Section 6001, but was not able to identify projects that totaled $18 billion.

The projects and elements on the Final Deauthorization List will be deauthorized automatically after 180 days following the date that the ASA(CW) submits the Final Deauthorization List to Congress, unless the Congress passes a joint resolution disapproving the Final Deauthorization List or the non-Federal interest for the project or separable element of the project provides sufficient funds to complete the project or separable element. The amount shown as the Federal Balance to complete is a working estimate generally based on the authorization and as such any non-Federal interests considering providing sufficient funds to complete a project or separable element should contact the appropriate District Commander to discuss the process necessary to develop a final cost to complete a project or separable element.

The Interim Deauthorization List follows below in Table 1.

Table 1 (Interim Deauthorization List)
State | Business line | Corps district | Congressional districts | Project/element name | Project/element type ⁽¹⁾ | Public law of authorization or latest amendment | Section of public law | Project/element phase and status ⁽²⁾ | Latest fiscal year of federal or non-federal obligations for construction | Federal balance to complete (subject to Section 902 where applicable)
AL | NAV | SAM | AL 2, 3 & 4 | ALABAMA-COOSA RIVER AND TRIBUTARIES, AL (COOSA RIVER BETWEEN MONTGOMERY AND GADSDEN) | PROJECT | 99-662 | 813 | CONSTRUCTION NOT INITIATED | 1986 | $3,781,921,691
AL | EI | SAM | AL 4 | DUCK RIVER, AL | PROJECT | 106-554 | 108a | CONSTRUCTION NOT INITIATED | NO OBLIGATION FOR CONSTRUCTION | 5,000,000
AR | EI | MVK | AR 4 | UNION COUNTY, AR | PROJECT | 106-554 | 108d | CONSTRUCTION NOT INITIATED | 2008 | 51,247,100
AR | FRM | MVM | AR 1 | L'ANGUILLE RIVER BASIN, AR | PROJECT | 99-662 | 103 | CONSTRUCTION NOT INITIATED | 2004 | 19,466,768
AR | FRM | SWL | AR 1, 2, 3 & 4; OK 1 | ARKANSAS RIVER LEVEES, AR | PROJECT | 101-640 | 110(a1) | NEVER FUNDED | NO OBLIGATION FOR CONSTRUCTION | 591,605
AR | AER | SWL | AR 3 | BEAVER DAM , AR (TROUT PRODUCTION CENTER) | SEPARABLE ELEMENT | 94-587 | 105 | NEVER FUNDED | NO OBLIGATION FOR CONSTRUCTION | 5,990,000
AR | EI | SWL | AR 3 | BEAVER LAKE, BENTON/WASH, AR | SEPARABLE ELEMENT | 104-303 | 523 | CONSTRUCTION PAUSED | 2002 | 5,000,000
CA | EI | SPK | CA 4 | CALAVERAS COUNTY, CA | PROJECT | 104-303 | 526 | NEVER FUNDED | NO OBLIGATION FOR CONSTRUCTION | 1,500,000
CA | EI | SPK | CA 3 & 5 | CLEAR LAKE BASIN, CA | PROJECT | 106-554 | 108a | NEVER FUNDED | NO OBLIGATION FOR CONSTRUCTION | 1,543,324
CA | FRM | SPK | CA 3 | COLUSA TROUGH DRAINAGE CANAL, SACRAMENTO RIVER AND TRIBUTARIES, CA | PROJECT | 99-662 | 830 | NEVER FUNDED | NO OBLIGATION FOR CONSTRUCTION | 18,900,846
CA | EI | SPK | CA 21 | PINE FLAT DAM, CA | PROJECT | 106-541 | 101b(7) | NEVER FUNDED | NO OBLIGATION FOR CONSTRUCTION | 41,502,918
CA | EI | SPL | CA 39 | CHINO HILLS, CA | PROJECT | 106-554 | 108a | NEVER FUNDED | NO OBLIGATION FOR CONSTRUCTION | 1,543,324
CA | EI | SPL | CA 39 & 45 | EASTERN MUNICIPAL WATER DISTRICT, CA | PROJECT | 106-554 | 108a | NEVER FUNDED | NO OBLIGATION FOR CONSTRUCTION | 1,543,324
CA | FRM | SPL | CA 24 | GOLETA & VICINITY, CA | PROJECT | 102-580 | 102b | CONSTRUCTION PAUSED | 1984 | 1,233,626
CA | EI | SPL | CA 44 | LOS ANGELES HARBOR/TERMINAL ISLAND, CA | PROJECT | 106-554 | 108d | NEVER FUNDED | NO OBLIGATION FOR CONSTRUCTION | 6,500,000
CA | FRM | SPL | CA 24 | LOWER MISSION CREEK, CA | PROJECT | 100-676 | 3a | NEVER FUNDED | NO OBLIGATION FOR CONSTRUCTION | 14,625,971
CA | EI | SPL | CA 26, 27 & 29 | SAN DIEGO AREA WATER REUSE DEMOSTRATION FACILITIES, CA | PROJECT | 102-580 | 217c(2) | NEVER FUNDED | NO OBLIGATION FOR CONSTRUCTION | 5,000,000
CA | EI | SPL | CA 52 | SAN DIEGO COUNTY, CA (CORONADO TRANSBAY WASTEWATER PIPELINE) | PROJECT | 106-554 | 108d | NEVER FUNDED | NO OBLIGATION FOR CONSTRUCTION | 10,000,000
CA | EI | SPL | CA 26, 27 & 29 | SOUTHERN CALIFORNIA COMPREHENSIVE WATER REUSE SYSTEM, CA | PROJECT | 102-580 | 217c(1) | NEVER FUNDED | NO OBLIGATION FOR CONSTRUCTION | 5,000,000
CT | EI | NAE | CT 4 | BRIDGEPORT COMBINED SEWER OVERFLOW PTOJECT, CT | PROJECT | 106-53 | 502b | CONSTRUCTION NOT INITIATED | NO OBLIGATION FOR CONSTRUCTION | 10,000,000
CT | EI | NAE | CT 1 | HARTFORD, CT | PROJECT | 106-53 | 502b | NEVER FUNDED | NO OBLIGATION FOR CONSTRUCTION | 10,000,000
CT | EI | NAE | CT 3 | NEW HAVEN, CT | PROJECT | 106-53 | 502b | NEVER FUNDED | NO OBLIGATION FOR CONSTRUCTION | 10,000,000
CT, ME, MA, NH, RI & VT | AER | NAE | CT 1, 2, 3, 4 & 5; ME 1, & 2; MA 1, 2, 3, 4, 5, 6, 7, 8, & 9; NH 1 & 2; RI 1 & 2; VT AT LARGE | NEW ENGLAND WATER RESOURCES AND ECOSYSTEM RESTORATION, CT, ME, MA, NH, RI & VT | PROJECT | 106-541 | 507 | NEVER FUNDED | NO OBLIGATION FOR CONSTRUCTION | (3)0
DC & MD | EI | NAB |  | WASHINGTON DC AND MARYLAND, D.C. & MD | PROJECT | 106-554 | 108d | CONSTRUCTION NOT INITIATED | 1998 | 14,807,000
FL | AER | SAJ | FL 17, 18, 19, 20, 21, 22 & 23 | COMPREHENSIVE EVERGLADES RESTORATION PLAN, FL (LAKE BELT GROUND RESERVOIR TECHNOLOGY) | SEPARABLE ELEMENT | 106-541 | 601 b2biiii | CONSTRUCTION NOT INITIATED | 2005 | 17,000,000
FL | AER | SAJ | FL 17, 18, 20, 21, 22, 23, 25, 26 & 27 | COMPREHENSIVE EVERGLADES RESTORATION PLAN, FL (NORTH NEW RIVER IMPROVEMENTS) | SEPARABLE ELEMENT | 106-541 | 601 b2cix | NEVER FUNDED | NO OBLIGATION FOR CONSTRUCTION | 67,150,000
FL | AER | SAJ | FL 18, 20, 21, 22, 23, 24, 25, 26 & 27 | COMPREHENSIVE EVERGLADES RESTORATION PLAN, FL (RAISE AND BRIDGE EAST PORTION OF TAMIAMI TRAIL AND FILL MIAMI CANAL WITHIN WATER) (CONSEVATION AREA 3) | SEPARABLE ELEMENT | 106-541 | 601 b2cviii | NEVER FUNDED | NO OBLIGATION FOR CONSTRUCTION | 21,500,000
FL | AER | SAJ | FL 16 & 23 | COMPREHENSIVE EVERGLADES RESTORATION PLAN, FL (TAYLOR CREEK/NUBBIN SLOUGH STORAGE AND TREATMENT AREA) | SEPARABLE ELEMENT | 106-541 | 601 b2cvii | CONSTRUCTION NOT INITIATED | NO OBLIGATION FOR CONSTRUCTION | 67,800,000
FL | AER | SAJ | FL 17, 18, 20, 21, 22, 23, 25, 26 & 27 | COMPREHENSIVE EVERGLADES RESTORATION PLAN, FL (WASTEWATER REUSE TECHNOLOGY) | SEPARABLE ELEMENT | 106-541 | 601 b2biiii | CONSTRUCTION NOT INITIATED | 2005 | 20,500,000
FL | NAV | SAJ | FL 12 | HUDSON RIVER, FL | PROJECT | 81-516 | 101 | NEVER FUNDED | NO OBLIGATION FOR CONSTRUCTION | 3,650,000
FL | EI | SAJ | FL 27 | KEY BISCAYNE, FL | PROJECT | 106-554 | 108a | NEVER FUNDED | NO OBLIGATION FOR CONSTRUCTION | 1,543,324
FL | FRM | SAJ | FL 14 | LITTLE TALBOT ISLAND, FL | PROJECT | 106-53 | 101b7 | CONSTRUCTION PAUSED | 2000 | 6,786,030
FL | EI | SAJ | FL 14 | SOUTH TAMPA, FL | PROJECT | 106-554 | 108a | NEVER FUNDED | NO OBLIGATION FOR CONSTRUCTION | 1,543,324
FL | NAV | SAJ | FL 10, 11, 12 & 13 | TAMPA HARBOR, ALAFIA RIVER, FL | PROJECT | 106-554 | 107 | CONSTRUCTION NOT INITIATED | 2006 | 64,771,847
FL | NAV | SAJ | FL 10, 11, 12 & 13 | TAMPA HARBOR, FL ((PORT SUTTON TURNING BASIN) WIDENING TO AN ADDITIONAL 105 FEET TO THE FENDER LINE ALONG PENDOLA POINT) | SEPARABLE ELEMENT | 99-662 | 858 | NEVER FUNDED | NO OBLIGATION FOR CONSTRUCTION | 8,434,881
HI | FRM | POH | HI 1 | WAIKIKI EROSION CONTROL, HI | PROJECT | 89-298 | 301 | NEVER FUNDED | NO OBLIGATION FOR CONSTRUCTION | 16,584,000
IL | EI | LRC | IL 11 & 14 | AURORA, IL | PROJECT | 106-554 | 108d | NEVER FUNDED | NO OBLIGATION FOR CONSTRUCTION | 8,000,000
IL | FRM | LRC | IL 9, 10 & 14 | DES PLAINES RIVER, IL (NORTH FORK MILL CREEK DAM MODIFICATION) | SEPARABLE ELEMENT | 106-53 | 101b10 | NEVER FUNDED | NO OBLIGATION FOR CONSTRUCTION | 5,795,400
IN | EI | LRE | IN 3 | FORT WAYNE, IN | PROJECT | 106-554 | 108a | NEVER FUNDED | NO OBLIGATION FOR CONSTRUCTION | 1,529,324
IN | EI | LRL | IN 7 | INDIANAPOLIS, IN | PROJECT | 106-554 | 108a | NEVER FUNDED | NO OBLIGATION FOR CONSTRUCTION | 1,543,324
KY | FRM | LRH | KY 5 | BEAVER CREEK BASIN, KY | PROJECT | 89-298 | 204 | NEVER FUNDED | NO OBLIGATION FOR CONSTRUCTION | 20,873,500
KY & TN | AER | MVM | TN 8; KY 1 | REELFOOT LAKE, TN & KY | PROJECT | 106-53 | 101b11 | NEVER FUNDED | NO OBLIGATION FOR CONSTRUCTION | 33,072,769
LA | FRM | MVK | LA 1 | PEARL RIVER, SLIDELL, SAINT TAMMANY PARISH, LA | PROJECT | 99-662 | 401b | CONSTRUCTION NOT INITIATED | 2002 | 29,311,000
LA | FRM | MVN | LA 1, 2 & 6 | AMITE RIVER AND TRIBUTARIES, LA | PROJECT | 102-580 | 101(11) | NEVER FUNDED | NO OBLIGATION FOR CONSTRUCTION | 38,058,405
LA | FRM | MVN | LA 6 | BAYOU COCODRIE AND TRIBUTARIES, LA | PROJECT | 93-251 | 87 | CONSTRUCTION PAUSED | 1987 | 345,472,000
LA | NAV | MVN | LA 1, 2, 3 & 6 | GULF INTRACOASTAL WATERWAY, LA-TX SECTION, LA & TX | PROJECT | 87-874 | 101 | NEVER FUNDED | NO OBLIGATION FOR CONSTRUCTION | 201,422,000
LA | EI | MVN | LA 1 & 2 | KENNER, LA | PROJECT | 106-554 | 108 | NEVER FUNDED | NO OBLIGATION FOR CONSTRUCTION | 5,000,000
LA | EI | MVN | LA 1 & 2 | ST. CHARLES, ST. BERNARD, AND PLAQUEMINES PARISHES, LA | PROJECT | 106-554 | 108a | NEVER FUNDED | NO OBLIGATION FOR CONSTRUCTION | 1,543,324
LA | EI | MVN | LA 2 & 6 | ST. JOHN THE BAPTIST AND ST. JAMES PARISHES, LA | PROJECT | 106-554 | 108a | NEVER FUNDED | NO OBLIGATION FOR CONSTRUCTION | 1,543,324
LA | FRM | MVN | LA 1 | TANGIPAHOA, TCHEFUNCTE, AND TICKFAW RIVERS, LA | PROJECT | 99-662 | 401 | NEVER FUNDED | NO OBLIGATION FOR CONSTRUCTION | 21,723,000
MA | EI | NAE | MA 9 | FALL RIVER AND NEW BEDFORD, MA | PROJECT | 106-554 | 108c | NEVER FUNDED | NO OBLIGATION FOR CONSTRUCTION | 35,000,000
MA | FRM | NAE | MA 4, 7 & 8 | MUDDY RIVER, BROOKLINE AND BOSTON, MA (AQUATIC ECOSYSTEM RESTORATION FEATURES) | SEPARABLE ELEMENT | 106-541 | 522 | NEVER FUNDED | NO OBLIGATION FOR CONSTRUCTION | 24,050,000
MI | NAV | LRE | MI 1 | ALPENA HARBOR, MI (25 FOOT CHANNEL) | PROJECT | 104-303 | 363d | NEVER FUNDED | NO OBLIGATION FOR CONSTRUCTION | 4,063,120
MI | NAV | LRE | MI 5 | BAY CITY, MI | PROJECT | 101-640 | 105 | NEVER FUNDED | NO OBLIGATION FOR CONSTRUCTION | 8,466,275
MI | EI | LRE | MI 6 | BENTON HARBOR, ST JOSEPH WASTEWATER TREATMENT PLANT, ST JOSEPH, MI | PROJECT | 106-554 | 108d | NEVER FUNDED | NO OBLIGATION FOR CONSTRUCTION | 1,500,000
MI | NAV | LRE | MI 1 | CHARLEVOIX, MI (REVETMENT CONNECTION) | SEPARABLE ELEMENT | 106-53 | 373 | NEVER FUNDED | NO OBLIGATION FOR CONSTRUCTION | 52,500
MI | NAV | LRE | MI 1 | ONTONAGON HARBOR, ONTONAGON COUNTY MI | PROJECT | 104-303 | 363e | NEVER FUNDED | NO OBLIGATION FOR CONSTRUCTION | 37,134,623
MI | FRM | LRE | MI 5 | SAGINAW RIVER AND TRIBUTARIES, MI (CASS RIVER AT VASSAR) | SEPARABLE ELEMENT | 106-53 | 364(3) | NEVER FUNDED | NO OBLIGATION FOR CONSTRUCTION | 13,909,394
MI | FRM | LRE | MI 4 & 5 | SAGINAW RIVER AND TRIBUTARIES, MI (CURTIS ROAD BRIDGE) | SEPARABLE ELEMENT | 99-662 | 845 | NEVER FUNDED | NO OBLIGATION FOR CONSTRUCTION | 720,653
MI | FRM | LRE | MI 5 | SAGINAW RIVER AND TRIBUTARIES, MI (FLINT RIVER AT FLINT) | SEPARABLE ELEMENT | 104-303 | 329 | NEVER FUNDED | NO OBLIGATION FOR CONSTRUCTION | 571,781
MI | FRM | LRE | MI 4 & 5 | SAGINAW RIVER AND TRIBUTARIES, MI (SHIAWASSEE FLATS) | SEPARABLE ELEMENT | 106-53 | 364(4) | NEVER FUNDED | NO OBLIGATION FOR CONSTRUCTION | 106,825,583
MI, MN & WI | NAV | LRE | MI 1; MN 8; WI 7 | GREAT LAKES CONNECTING CHANNELS & HARBORS, MN, MI & WI | PROJECT | 101-640 | 101a15 | NEVER FUNDED | NO OBLIGATION FOR CONSTRUCTION | 17,938,174
MN | NAV | LRE | MN 8 | DULUTH, MN (ALTERNATIVE TECHNOLOGY PROJECT) | PROJECT | 104-303 | 541a/b | NEVER FUNDED | NO OBLIGATION FOR CONSTRUCTION | 1,000,000
MN | EI | LRE | MN 8 | LAKE SUPERIOR CENTER, MN | PROJECT | 104-303 | 542 | NEVER FUNDED | NO OBLIGATION FOR CONSTRUCTION | 10,000,000
MN | EI | MVP | MN 5 | MISSISSIPPI PLACE, MN | PROJECT | 106-53 | 577 | CONSTRUCTION NOT INITIATED | 2006 | 2,968,178
MN & WI | NAV | LRE | MN 8; WI 7 | DULUTH—SUPERIOR CHANNEL EXTENSION, MN & WI | PROJECT | 99-662 | 201a | CONSTRUCTION PAUSED | 1995 | 14,064,481
MO | EI | NWK | MO 4 & 6 | KANSAS CITY, MO | PROJECT | 106-53 | 502b | NEVER FUNDED | NO OBLIGATION FOR CONSTRUCTION | 15,000,000
MO & IL | NAV | MVS | MO 1, 2, 3, & 8; IL 12 & 13 | ST LOUIS HARBOR, MO & IL | PROJECT | 99-662 | 601a | NEVER FUNDED | NO OBLIGATION FOR CONSTRUCTION | 43,253,100
MS | FRM | MVK | MS 2 | YAZOO BASIN, TRIBUTARIES, MS | PROJECT | 89-298 | 204 | CONSTRUCTION PAUSED | 2007 | 233,490,728
MS | NAV | MVK | MS 2 | YAZOO RIVER, MS (SHEPARDSTOWN BRIDGE) | SEPARABLE ELEMENT | 99-662 | 822 | NEVER FUNDED | NO OBLIGATION FOR CONSTRUCTION | 2,011,094
MS & LA | AER | MVN | LA 2 | MISSISSIPPI AND LOUISIANA ESTUARINE AREAS, MS & LA | PROJECT | 100-676 | 3(a)8 | CONSTRUCTION NOT INITIATED | 2003 | 70,668,540
NC | EI | SAW | NC 8 | LUMBERTON, NC | PROJECT | 106-53 | 502b | NEVER FUNDED | NO OBLIGATION FOR CONSTRUCTION | 1,700,000
NC | EI | SAW | NC 8 & 9 | UNION COUNTY, NC | PROJECT | 106-554 | 108a | NEVER FUNDED | NO OBLIGATION FOR CONSTRUCTION | 1,543,324
NC & SC | FRM | SAW | NC 9 & 12 | SUGAR CREEK BASIN, NC & SC | PROJECT | 99-662 | 401a | NEVER FUNDED | NO OBLIGATION FOR CONSTRUCTION | 54,523,100
NH | EI | NAE | NH 2 | NASHUA, NH (COMBINED SEWER OVERFLOW) | PROJECT | 106-53 | 502b | CONSTRUCTION NOT INITIATED | NO OBLIGATION FOR CONSTRUCTION | 19,853,000
NH | EI | NAE | NH 1 | ROCHESTER, NH | PROJECT | 104-303 | 504(e) (4) | CONSTRUCTION NOT INITIATED | NO OBLIGATION FOR CONSTRUCTION | 10,897,120
NJ | EI | NAN | NJ 8 | ELIZABETH, NJ | PROJECT | 106-53 | 502(f) | NEVER FUNDED | NO OBLIGATION FOR CONSTRUCTION | 20,000,000
NJ | EI | NAN | NJ 8 | NORTH HUDSON, NJ | PROJECT | 106-53 | 502(f) | NEVER FUNDED | NO OBLIGATION FOR CONSTRUCTION | 20,000,000
NJ | EI | NAN | NJ 9 | PATTERSON AND PASSAIC COUNTY, NJ | PROJECT | 106-554 | 108c | NEVER FUNDED | NO OBLIGATION FOR CONSTRUCTION | 30,000,000
NJ | EI | NAP | NJ 4, 6 & 12 | STATE OF NEW JERSEY AND NEW JERSEY WASTEWATER TREATMENT TRUST, NJ | PROJECT | 102-580 | 219c (10) | NEVER FUNDED | NO OBLIGATION FOR CONSTRUCTION | 1,543,324
NJ | EI | NAP | NJ 5 | TOWN OF NEWTON, NJ | PROJECT | 106-554 | 108d | NEVER FUNDED | NO OBLIGATION FOR CONSTRUCTION | 7,000,000
NV | FRM | SPL | NV 4 | LAS VEGAS WASH AND TRIBUTARIES, NV | PROJECT | 102-580 | 101(13) | CONSTRUCTION NOT INITIATED | NO OBLIGATION FOR CONSTRUCTION | 3,360,938
NV | FRM | SPL | NV 4 | LAS VEGAS, NV | PROJECT | 109-103 | 115 | NEVER FUNDED | NO OBLIGATION FOR CONSTRUCTION | 20,000,000
NY | EI | LRB | NY26 & 27 | ERIE COUNTY, BUFFALO AMHRST, NY | SEPARABLE ELEMENT | 102-580 | 221 | NEVER FUNDED | NO OBLIGATION FOR CONSTRUCTION | 7,000,000
NY | EI | LRB | NY 26 & 27 | ERIE COUNTY, NY (SLUDGE DISPOSAL) | PROJECT | 102-580 | 219c (12) | NEVER FUNDED | NO OBLIGATION FOR CONSTRUCTION | 1,543,324
NY | EI | LRB | NY 26 & 27 | ERIE COUNTY, NY (WATER QUALITY TUNNEL) | PROJECT | 102-580 | 219c (11) | NEVER FUNDED | NO OBLIGATION FOR CONSTRUCTION | 1,543,324
NY | EI | LRB | NY26 & 27 | LEWISTON STORMWATER, NY | SEPARABLE ELEMENT | 102-580 | 222 | NEVER FUNDED | NO OBLIGATION FOR CONSTRUCTION | 200,000
NY | EI | LRB | NY 24 | LIVERPOOL, NY | PROJECT | 106-554 | 108d | NEVER FUNDED | NO OBLIGATION FOR CONSTRUCTION | 2,000,000
NY | EI | NAN | NY 10 & 11; NJ 8 | INNER HARBOR PROJECT, NEW YORK, NY | PROJECT | 106-53 | 502(f) | NEVER FUNDED | NO OBLIGATION FOR CONSTRUCTION | 15,000,000
NY | FRM | NAN | NY 17, 18, 19 & 20 | LOWER HUDSON RIVER & TRIBUTARIES, NY | PROJECT | 106-53 | 212e | NEVER FUNDED | NO OBLIGATION FOR CONSTRUCTION | 30,000,000
NY | EI | NAN | NY 6 & 11 | OUTER HARBOR PROJECT, NEW YORK, NY | PROJECT | 106-53 | 502(f) | NEVER FUNDED | NO OBLIGATION FOR CONSTRUCTION | 15,000,000
NY/NJ | NAV | NAN | NJ 6, 9 & 13; NY 7, 8, 9, 12, 13,14 & 15 | NEW YORK HARBOR COLLECTION AND REMOVAL OF DRIFT, NY & NJ | PROJECT | 101-640 | 102 | CONSTRUCTION PAUSED | 2005 | 201,549,768
OH | NAV | LRB | OH 9 | OTTAWA RIVER HARBOR, OH | PROJECT | 101-640 | 107a7 | CONSTRUCTION NOT INITIATED | 2006 | 13,218,200
OH | FRM | LRH | OH 15 | HOCKING RIVER, LOGAN, OH | PROJECT | 99-662 | 401a | NEVER FUNDED | NO OBLIGATION FOR CONSTRUCTION | 16,282,709
OH | FRM | LRL | OH 8 | MIAMI RIVER BASIN, PLEASANT RUN, VICINITY FAIRFIELD, OH | PROJECT | 99-662 | 401a | CONSTRUCTION NOT INITIATED | NO OBLIGATION FOR CONSTRUCTION | 18,041,480
OK | HYD | SWT | OK 2 | FORT GIBSON LAKE, OK (POWER UNITS 5 & 6) | SEPARABLE ELEMENT | 99-662 | 601a | NEVER FUNDED | NO OBLIGATION FOR CONSTRUCTION | 45,485,000
OR | EI | NWP | OR 1 | ASTORIA, OR | PROJECT | 106-53 | 502b | NEVER FUNDED | NO OBLIGATION FOR CONSTRUCTION | 5,000,000
OR | EI | NWP | OR 2 | HOOD RIVER, OR | PROJECT | 106-554 | 108a (36) | NEVER FUNDED | NO OBLIGATION FOR CONSTRUCTION | 1,543,324
OR | EI | NWP | OR 2 | MEDFORD, OR | PROJECT | 106-554 | 108a (37) | NEVER FUNDED | NO OBLIGATION FOR CONSTRUCTION | 1,543,324
OR | EI | NWP | OR 1 & 2 | PORTLAND, OR | PROJECT | 106-554 | 108a (38) | NEVER FUNDED | NO OBLIGATION FOR CONSTRUCTION | 1,543,324
PA | EI | LRP | PA 5 | COUDERSPORT, PA | PROJECT | 106-554 | 108 | NEVER FUNDED | NO OBLIGATION FOR CONSTRUCTION | 1,543,324
PA | EI | LRP | PA 18 | FINDLAY TOWNSHIP, PA | PROJECT | 106-53 | 502 | NEVER FUNDED | NO OBLIGATION FOR CONSTRUCTION | 11,000,000
PA | EI | LRP | PA 9 | GREENSBORO AND GLASSWORKS, PA | PROJECT | 102-580 | 219c(15) | NEVER FUNDED | NO OBLIGATION FOR CONSTRUCTION | 1,543,324
PA | EI | LRP | PA 9 | JEFFERSON TOWNSHIP, GREENE COUNTY, PA | PROJECT | 106-53 | 502 | NEVER FUNDED | NO OBLIGATION FOR CONSTRUCTION | 1,000,000
PA | EI | LRP | PA 18 | NORTH FAYETTE TOWNSHIP, ALLEGHENY COUNTY, PA | PROJECT | 106-53 | 502 | NEVER FUNDED | NO OBLIGATION FOR CONSTRUCTION | 500,000
PA | EI | LRP | PA 18 | ROBINSON TOWNSHIP, PA | PROJECT | 106-53 | 502 | NEVER FUNDED | NO OBLIGATION FOR CONSTRUCTION | 1,200,000
PA | EI | LRP | PA 14 | SPRINGDALE BOROUGH, PA | PROJECT | 106-53 | 502 | NEVER FUNDED | NO OBLIGATION FOR CONSTRUCTION | 500,000
PA | EI | LRP | PA 3 | TITUSVILLE, PA | PROJECT | 106-554 | 108 | NEVER FUNDED | NO OBLIGATION FOR CONSTRUCTION | 7,300,000
PA | EI | LRP | PA 9, 12, 14 & 18 | WASHINGTON, GREENE, WESTMORELAND, AND FAYETTE COUNTIES, PA | PROJECT | 106-554 | 108 | NEVER FUNDED | NO OBLIGATION FOR CONSTRUCTION | 8,000,000
PA | EI | NAB | PA 10 | BRADFORD AND SULLIVAN COUNTIES, PA | SEPARABLE ELEMENT | 106-53 | 548 | NEVER FUNDED | NO OBLIGATION FOR CONSTRUCTION | 13,000,000
PA | EI | NAB | PA 11 & 15 | DAUPHIN COUNTY, PA | PROJECT | 106-53 | 502b | NEVER FUNDED | NO OBLIGATION FOR CONSTRUCTION | 2,000,000
PA | EI | NAB | PA 4 | DILLSBURG BOROUGH AUTHORITY, PA | PROJECT | 106-53 | 502b | NEVER FUNDED | NO OBLIGATION FOR CONSTRUCTION | 2,000,000
PA | EI | NAB | PA 4 | HAMPDEN TOWNSHIP, PA | PROJECT | 106-53 | 502b | NEVER FUNDED | NO OBLIGATION FOR CONSTRUCTION | 3,000,000
PA | EI | NAB | PA 4 & 11 | MOUNT JOY TOWNSHIP AND CONEWAGO TOWNSHIP, PA | PROJECT | 106-554 | 108d | NEVER FUNDED | NO OBLIGATION FOR CONSTRUCTION | 8,300,000
PA | EI | NAB | PA 5 | PATTON TOWNSHIP, PA | PROJECT | 106-53 | 502b | NEVER FUNDED | NO OBLIGATION FOR CONSTRUCTION | 1,400,000
PA | EI | NAB | PA 4 | UPPER ALLEN TOWNSHIP, PA | PROJECT | 106-53 | 502b | NEVER FUNDED | NO OBLIGATION FOR CONSTRUCTION | 3,400,000
PA | FRM | NAP | PA 17 | DELAWARE RIVER BASIN—WABASH CREEK, BOROUGH OF TAMAQUA, PA | PROJECT | 93-251 | 2 | CONSTRUCTION NOT INITIATED | 1993 | 13,194,000
PA | FRM | NAP | PA 2 & 3 | PHILADELPHIA, PA (FRANKFORD DAM) | PROJECT | 104-303 | 564e | NEVER FUNDED | NO OBLIGATION FOR CONSTRUCTION | 900,000
PA | FRM | NAP | PA 1, 2, 3 & 13 | PHILADELPHIA, PA (PENNYPACK PARK) | PROJECT | 104-303 | 564d | NEVER FUNDED | NO OBLIGATION FOR CONSTRUCTION | 15,000,000
PA | FRM | NAP | PA 2 & 3 | PHILADELPHIA, PA (WATER WORKS RESTORATION) | PROJECT | 104-303 | 564a | NEVER FUNDED | NO OBLIGATION FOR CONSTRUCTION | 1,000,000
PA | EI | NAP | PA 6 | PHOENIXVILLE BOROUGH, CHESTER COUNTY, PA | PROJECT | 106-554 | 108d | NEVER FUNDED | NO OBLIGATION FOR CONSTRUCTION | 2,400,000
PA | EI | NAP | PA 8 | TOWAMENCIN TOWNSHIP, PA | PROJECT | 106-53 | 502b | CONSTRUCTION NOT INITIATED | 2005 | 1,462,000
PR | FRM | SAJ | PR AT LARGE | GUANAJIBO RIVER, PR | PROJECT | 106-53 | 101 | NEVER FUNDED | NO OBLIGATION FOR CONSTRUCTION | 33,495,941
PR | FRM | SAJ | PR AT LARGE | RIO NIGUA AT SALINAS, PR | PROJECT | 106-53 | 101 | NEVER FUNDED | NO OBLIGATION FOR CONSTRUCTION | 12,145,000
RI | EI | NAE | RI 2 | CRANSTON, RI | PROJECT | 101-640 | 54 | NEVER FUNDED | NO OBLIGATION FOR CONSTRUCTION | 6,000,000
RI | EI | NAE | RI 1 & 2 | DREDGING OF SALT PONDS IN THE STATE OF RHODE ISLAND, RI | PROJECT | 106-53 | 578 | NEVER FUNDED | NO OBLIGATION FOR CONSTRUCTION | 1,100,000
SC | EI | SAC | SC 1 | CHARLESTON, SC | PROJECT | 108-137 | 127 | NEVER FUNDED | NO OBLIGATION FOR CONSTRUCTION | 10,000,000
TN | NAV | MVM | TN 9 | MEMPHIS HARBOR, MEMPHIS, TN | PROJECT | 106-53 | 364 | NEVER FUNDED | NO OBLIGATION FOR CONSTRUCTION | 110,044,000
TN | FRM | MVM | TN 8 | NONCONNAH CREEK, TN & MS (EXTENSION) | SEPARABLE ELEMENT | 106-541 | 334 | CONSTRUCTION NOT INITIATED | 2004 | 36,188,000
TX | FRM | SWF | TX 8 & 17 | NAVASOTA RIVER BASIN, TX (MILLICAN LAKE, TX) | SEPARABLE ELEMENT | 90-483 | 203 | CONSTRUCTION NOT INITIATED | 1983 | 778,421,000
TX | FRM | SWF | TX 2, 8 & 14 | TRINITY RIVER AND TRIBUTARIES, TX (LIBERTY LOCAL PROTECTION PROJECT) | SEPARABLE ELEMENT | 108-447 | 116 | CONSTRUCTION NOT INITIATED | 1981 | 19,985,000
TX | NAV | SWF | TX 2, 8 & 14 | TRINITY RIVER AND TRIBUTARIES, TX (NAVIGATION CHANNEL ABOVE LIBERTY) | SEPARABLE ELEMENT | 108-447 | 116 | CONSTRUCTION NOT INITIATED | 1981 | 5,412,060,000
TX | FRM | SWF | TX 2, 8 & 14 | TRINITY RIVER AND TRIBUTARIES, TX (WEST FORK FLOODWAY) | SEPARABLE ELEMENT | 108-447 | 116 | CONSTRUCTION NOT INITIATED | 1981 | 119,408,000
TX | FRM | SWG | TX 2, 7, 8, 10, 18 & 29 | BUFFALO BAYOU AND TRIBUTARIES, TX (HALLS BAYOU) | SEPARABLE ELEMENT | 101-640 | 101(21) | NEVER FUNDED | NO OBLIGATION FOR CONSTRUCTION | 112,536,000
TX | FRM | SWG | TX 15 & 34 | LOWER RIO GRANDE BASIN, TEXAS (SOUTH MAIN CHANNEL), TX | SEPARABLE ELEMENT | 99-662 | 401a | CONSTRUCTION NOT INITIATED | 2005 | 207,183,000
TX & OK | NAV | SWT | TX 4; OK 2 | RED RIVER WATERWAY (BANK STABILIZATION FEATURES) | SEPARABLE ELEMENT | 90-483 | 101 | CONSTRUCTION NOT INITIATED | 2004 | 685,324,228
UT | EI | SPK | UT 1 | CACHE COUNTY, UT | PROJECT | 106-53 | 502b | NEVER FUNDED | NO OBLIGATION FOR CONSTRUCTION | 5,000,000
UT | FRM | SPK | UT 4 | UPPER JORDAN RIVER, UT | PROJECT | 106-53 | 357 | CONSTRUCTION NOT INITIATED | 2004 | 11,087,268
VA | FRM | LRH | VA 9 | LEVISA AND TUG FORKS AND UPPER CUMBERLAND RIVER VA, WV, KY (HAYSI LAKE, VA) | SEPARABLE ELEMENT | 104-303 | 353 | CONSTRUCTION NOT INITIATED | 1989 | 185,915,319
VA | NAV | NAO | VA 3 | NORFOLK HARBOR ANCHORAGES, VA | PROJECT | 101-640 | 107a13 | NEVER FUNDED | NO OBLIGATION FOR CONSTRUCTION | 63,130,000
VA | FRM | NAO | VA 2 | WALLOPS ISLAND, VA | PROJECT | 106-53 | 567 | NEVER FUNDED | NO OBLIGATION FOR CONSTRUCTION | 8,000,000
WA | REC | NWW | WA 5 | SNAKE RIVER INTERPRETIVE CENTER, CLARKSTON, WA | PROJECT | 108-137 | 124 | CONSTRUCTION NOT INITIATED | 2004 | 3,750,044
WA | AER | NWS | WA 1 & 2 | STILLAGUMAISH RIVER BASIN, WA | PROJECT | 106-541 | 101b (27) | NEVER FUNDED | NO OBLIGATION FOR CONSTRUCTION | 26,047,966
WV | FRM | LRH | WV 2 | CABIN CREEK LPP, WV | PROJECT | 99-662 | 601a | NEVER FUNDED | NO OBLIGATION FOR CONSTRUCTION | 10,409,900
WV | FRM | LRH | WV 3 | ISLAND CREEK BASIN, VICINITY OF LOGAN, WV (NON-STRUCTURAL FEATURES) | SEPARABLE ELEMENT | 99-662 | 401a | NEVER FUNDED | NO OBLIGATION FOR CONSTRUCTION | 107,707,600
WV | NAV | LRH | WV 1 | WEST VIRGINIA PORT DEVELOPMENT, WV | PROJECT | 106-53 | 557(3) | NEVER FUNDED | NO OBLIGATION FOR CONSTRUCTION | 24,144,000
WV | NAV | LRP | WV 1 | WEIRTON PORT, WV | PROJECT | 106-53 | 557(2) | NEVER FUNDED | NO OBLIGATION FOR CONSTRUCTION | 15,274,778
|  |  |  | # PROJECTS | 147 |  |  |  | TOTAL | 14,348,670,778
NOTES:
(1) PROJECT/ELEMENT TYPE: PROJECT = WATER RESOURCES DEVELOPMENT PROJECT AUTHORIZED FOR CONSTRUCTION, INCLUDING AUTHORIZED ENVIRONMENTAL INFRASTRUCTURE ASSISTANCE PROGRAM IN ACCORDANCE WITH WRRDA 2014, SECTION 6001(f)(1)(B).
(2) PROJECT/ELEMENT PHASE AND STATUS: NEVER FUNDED = NEVER FUNDED FOR CONSTRUCTION, INCLUDING PROJECTS IN PRECONSTRUCTION ENGINEERING AND DESIGN; CONSTRUCTION NOT INITIATED = CONSTRUCTION FUNDED BUT PHYSICAL CONSTRUCTION NOT INITIATED; CONSTRUCTION PAUSED = CONSTRUCTION FUNDED BUT PHYSICAL CONSTRUCTION PAUSED.
(3) PER PUBLIC LAW 106-541, SEC. 507, NO CRITICAL RESTORATION PROJECT MAY BE INITIATED UNDER THIS SUBSECTION AFTER SEPTEMBER 30, 2005.

Authority: This notice is required by § 6001(c) of the Water Resources Reform and Development Act of 2014, Public Law 113-121, 128 STAT 1346-1347.

Dated: September 30, 2015.
Jo-Ellen Darcy,
Assistant Secretary of the Army (Civil Works).

[FR Doc. 2015-25586 Filed 10-6-15; 8:45 am]

BILLING CODE 3720-58-P